DEPARTMENT OF ENERGY

Federal Energy Regulatory Commission

[Project No. 3494-088]

Allegheny Number 6 Hydro Partners;Allegheny Energy Supply Company, LLC; Notice of Application for Transfer of License and Soliciting Comments and Motions To Intervene

October 28, 2009.

On October 7, 2009, Allegheny Number 6 Hydro Partners (transferor) and Allegheny Energy Supply Company, LLC (transferee) filed an application for transfer of license of the U.S. Army Corps of Engineers' Allegheny Lock and Dam No. 6 located in Armstrong County, Pennsylvania.

Applicants seek Commission approval to transfer the license for the Allegheny Lock and Dam No. 6 from the transferor to the transferee.

Applicant Contact: Transferor: Allegheny Number 6 Hydro Partners—Ms. Michelle D. Grant, Dynegy Inc., 1000 Louisiana, Suite 5800, Houston, TX 77002, (713) 767-0387, e-mail: michelle.d.grant@dynegy.com. Transferee: Allegheny Energy Supply Company, LLC—Mr. David T. Fisfis, Allegheny Energy, Inc., 800 Cabin Hill Drive, Greensburg, PA 15601, phone (724) 838-6926, e-mail: dfisfis@alleghenyenergy.com.

FERC Contact: Patricia W. Gillis, (202) 502-8735.

Deadline for filing comments and motions to intervene: 15 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp.

Enter the docket number (P-3494-088) in the docket number field to access the document. For assistance, call toll-free 1-866-208-3372.

Kimberly D. Bose,
Secretary.

[FR Doc. E9-26476 Filed 11-3-09; 8:45 am]

BILLING CODE 6717-01-P